DEPARTMENT OF TRANSPORTATION

Federal Aviation Administration

14 CFR Part 71

[Docket No. FAA-2007-28559; Airspace Docket No. 07-AEA-03]

Removal of Class D and E Airspace; Utica, NY; Amendment of Class D and E Airspace; Rome, NY; Establishment of Class E Airspace; Rome, NY

AGENCY: Federal Aviation Administration (FAA), DOT.

ACTION: Final rule.

SUMMARY: This action will remove the Class D, E2, E4, and E5 airspace at Utica, NY, and amend the Class D and E2 airspace at Rome, NY. This action will also establish Class E5 airspace at Rome, NY. The Oneida County Airport, Utica, NY, is permanently closed and no longer operational, moving aircraft operations to Griffiss Airfield, Rome, NY. The closure necessitates the removal of all Class D and E airspace at Utica, NY. Subsequently, this action amends the Class D and E2 airspace at Rome, NY, published in the Federal Register on January 25, 2007, (72 FR 3365) but not charted due to inaccuracies in the legal descriptions. This action will also establish Class E5 airspace at Rome, NY, to replace the Class E5 airspace being removed at Utica, NY. Class D surface area airspace is required when the control tower is open to contain Standard Instrument Approach Procedures (SIAPs) and other Instrument Flight Rules (IFR) operations at the airport. Class E2 surface area airspace is required when the control tower is closed to contain SIAPs and other IFR operations at the airport. Class E5 airspace extends upward from 700 feet Above Ground Level (AGL) and is required to contain SIAPs and other IFR operations at the airport. This action will amend Class D airspace extending upward from the surface to and including 3,000 feet MSL within an 8.4-mile radius and Class E2 airspace within an 8.4-mile radius of the Griffiss Airfield. This action will also establish Class E5 airspace extending upward from 700 feet above the surface within a 10.9 mile radius of Griffiss Airfield and within 5 miles each side of the Griffiss Airfield ILS localizer northwest course from the 10.9-mile radius to 15 miles northwest of Griffiss Airfield and within a 26-mile radius of the airport extending clockwise from a 125° bearing to 200° bearing from the airport.

DATES: Effective Date: 0901 UTC, October 25, 2007. The Director of the Federal Register approves this incorporation by reference action under 1 CFR, part 51, subject to the annual revision of FAA Order 7400.9 and publication of conforming amendments.

FOR FURTHER INFORMATION CONTACT: Mark D. Ward, Manager, System Support, Eastern Service Center, Federal Aviation Administration, P.O. Box 20636, Atlanta, Georgia 30320; telephone (404) 305-5586.

SUPPLEMENTARY INFORMATION:

History

On January 1, 2007, the Oneida County Airport, Utica, NY, was permanently closed and airport operations terminated. The closure, therefore, requires the removal of all Class D and E airspace at Utica, NY. Subsequently, operations were moved to Griffiss Airfield, Rome, NY, and Class D and E2 airspace areas were established. An amendment is required to correct errors in the legal description of the Class D and E airspace which has prevented the airspace from being charted. Establishment of Class E5 airspace at Rome, NY, is required to replace the Class E5 airspace being removed at Utica, NY. This rule becomes effective on the date specified in the “Effective Date” section. Since this action eliminates the impact of controlled airspace on users of airspace in the vicinity of Utica, NY, and has no significant impact on the users of the airspace in the vicinity of the Griffiss Airfield, Rome, NY, notice and public procedure under 5 U.S.C. 553(b) are not necessary. Designations for Class D and E Surface Area Airspace, Class E Airspace Areas D Surface Area, and Class E Airspace Areas Extending Upward from 700 feet or More Above the Surface of the Earth are published in paragraphs 5000, 6002, 6004 and 6005 respectively of FAA Order 7400.9P, dated September 1, 2006, and effective September 15, 2006, which is incorporated by reference in 14 CFR 71.1. The Class D and Class E airspace designations listed in this document will be published subsequently in the Order.

The Rule

This amendment to part 71 of the Federal Aviation Regulations (14 CFR part 71) removes Class D, E2, E4, and E5 airspace at Utica, NY, amends Class D, and E2 airspace at Rome, NY, and establishes Class E5 airspace at Rome, NY.

The FAA has determined that this regulation only involves an established body of technical regulations for which frequent and routine amendments are necessary to keep them operationally current. It, therefore, (1) is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule will not have a significant economic impact on a substantial number of small entities under the criteria of the Regulatory Flexibility Act.

List of Subjects in 14 CFR Part 71

Airspace, Incorporation by reference, Navigation (air).

Adoption of the Amendment

In consideration of the foregoing, the Federal Aviation Administration amends 14 CFR part 71 as follows:

PART 71—DESIGNATION OF CLASS A, CLASS B, CLASS C, CLASS D AND CLASS E AIRSPACE AREAS; AIRWAYS; ROUTES; AND REPORTING POINTS

1. The authority citation for 14 CFR part 71 continues to read as follows:

Authority: 49 U.S.C. 106(g); 40103, 40113, 40120; EO 10854, 24 FR 9565, 3 CFR, 1959-1963 Comp., p. 389; 14 CFR 11.69.

§ 71.1 [Amended]

2. The incorporation by reference in 14 CFR 71.1 of Federal Aviation Administration Order 7400.9P, Airspace Designations and Reporting Points, dated September 1, 2006, and effective September 15, 2006, is amended as follows:

Paragraph 5000 Class D Airspace.

* * * * *

AEA NY D Utica, NY [Remove]

* * * * *

AEA NY D Rome, NY [Revised]

Griffiss Airfield, NY

(Lat. 43°14′02″ N, long. 75°24′25″ W)

That airspace extending upward from the surface to and including 3,000 feet MSL within an 8.4-mile radius of the Griffiss Airfield. This Class D airspace area is effective during the specific days and times established in advance by a Notice to Airmen. The effective days and times will thereafter be continuously published in the Airport/Facility Directory.

* * * * *

Paragraph 6002 Class E Airspace Designated as Surface Areas.

* * * * *

AEA NY E2 Utica, NY [Remove]

* * * * *

AEA NY E2 Rome, NY [Revised]

Griffiss Airfield, NY

(Lat. 43°14′02″ N, long. 75°24′25″ W)

Within an 8.4-mile radius of the Griffiss Airfield. This Class E airspace area is effective during the specific days and times established in advance by a Notice to Airmen. The effective days and times will thereafter be continuously published in the Airport/Facility Directory.

* * * * *

Paragraph 6004 Class E Airspace Areas Designated as an Extension to a Class D Surface Areas.

* * * * *

AEA NY E4 Utica, NY [Remove]

* * * * *

Paragraph 6005 Class E Airspace Areas Extending Upward From 700 Feet or More Above the Surface of the Earth.

* * * * *

AEA NY E5 Utica, NY [Remove]

* * * * *

AEA NY E5 Rome, NY [New]

Griffiss Airfield, NY

(Lat. 43°14′02″ N, long. 75°24′25″ W)

That airspace extending upward from 700 feet above the surface within a 10.9-mile radius of Griffiss Airfield and within 5 miles each side of the Griffiss Airfield ILS localizer northwest course from the 10.9-mile radius to 15 miles northwest of the airport and within a 26-mile radius of the airport extending clockwise from a 125° bearing to a 200° bearing from the airport.

* * * * *

Issued in College Park, Georgia, on August 8, 2007.
Barry A. Knight,
Acting Manager, System Support Group, Eastern Service Center.

[FR Doc. 07-4332 Filed 9-6-07; 8:45 am]

BILLING CODE 4910-13-M